DEPARTMENT OF LABOR

Employment and Training Administration

[TA-W-61,298]

American Manufacturing International, Inc.; Patterson, NJ; Notice of Negative Determination Regarding Application for Reconsideration

By application dated May 11, 2007 a petitioner requested administrative reconsideration of the Department's negative determination regarding eligibility for workers and former workers of the subject firm to apply for Trade Adjustment Assistance (TAA). The denial notice applicable to workers of American Manufacturing International, Inc., Patterson, New Jersey was signed on May 1, 2007 and published in the Federal Register on May 17, 2007 (72 FR 27855).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition filed on behalf of workers at American Manufacturing International Inc., Patterson, New Jersey engaged in the retailing of chemicals was denied because the petitioning workers did not produce an article within the meaning of Section 222 of the Act.

The petitioner contends that the Department erred in its interpretation of work performed at the subject facility as providing a service and further conveys that workers of the subject firm mix various chemicals using recipes and then sell them to textile plants.

A company official was contacted for clarification in regard to the nature of the work performed at the subject facility. The official stated that the subject firm has outsourced production of chemicals to another independent company since 2004. The official clarified that workers of the subject firm did not mix or react chemicals in 2006 and January through April of 2007.

Moreover, a review of the record established that only one worker was separated from American Manufacturing International, Inc., Patterson, New Jersey during the relevant time period.

When assessing eligibility for TAA, the Department makes its determinations based on the requirements as outlined in Section 222 of the Trade Act. The investigation revealed that American Manufacturing International, Inc., Patterson, New Jersey did not separate or threaten to separate a significant number or proportion of workers as required by Section 222 of the Trade Act of 1974. Significant number or proportion of the workers in a firm or appropriate subdivision thereof, means that at least three workers with a workforce of fewer than 50 workers, five percent of the workers with a workforce over 50 workers, or fifty workers.

Also, since the total number of separated workers was one during the relevant period, workers of American Manufacturing International, Inc., Patterson, New Jersey do not meet the group eligibility requirements for trade adjustment assistance, since

Conclusion

After review of the application and investigative findings, I conclude that there has been no error or misinterpretation of the law or of the facts which would justify reconsideration of the Department of Labor's prior decision. Accordingly, the application is denied.

Signed at Washington, DC, this 23rd day of May, 2007.
Elliott S. Kushner,
Certifying Officer, Division of Trade Adjustment Assistance.

[FR Doc. E7-10310 Filed 5-29-07; 8:45 am]

BILLING CODE 4510-FN-P